DEPARTMENT OF COMMERCE

National Oceanic and Atmospheric Administration

RIN 0648-XV005

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Surfclam and Ocean Quahog Advisory Panel (AP) will hold a public meeting.

DATES: The meeting will be held on Tuesday, September 17, 2019, from 9 a.m. until 12 p.m. See SUPPLEMENTARY INFORMATION for agenda details.

ADDRESSES: The meeting will take place at the Embassy Suites Philadelphia-Airport, 9000 Bartram Ave., Philadelphia, PA 19153; telephone: (215) 365-4500.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's (Councils) Surfclam and Ocean Quahog AP will meet to review and provide comments on the Fishery Management Action Team's recommendations to address potential actions from the Catch Share Program review conducted by Northern Economic, Inc. The input from the AP on this topic will be presented to the Council's Executive Committee at the October 2019 Council meeting, when the Council discusses its 2020 Implementation Plan.

In addition, at this meeting, the AP will also review and provide input on the public hearing comments from the Excessive Shares Amendment. The Council will collect public comments on the Atlantic Surfclam and Ocean Quahog Excessive Shares Amendment during 4 public hearings to be held during a 45-day Public comment period from August 1 to September 14, 2019 (84 FR 31032). The input from the AP on this topic will be presented to the Council at its December 2019 Council meeting, when the Council discusses the final action/approval of the Excessive Shares Amendment. An agenda and background documents will be posted at the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: July 23, 2019.
Tracey L. Thompson,
Acting Deputy Director, Office of Sustainable Fisheries, National Marine Fisheries Service.

[FR Doc. 2019-15900 Filed 7-25-19; 8:45 am]

BILLING CODE 3510-22-P